DEPARTMENT OF HEALTH AND HUMAN SERVICES

Office of Inspector General

Draft OIG Compliance Program Guidance for Recipients of PHS Research Awards—Extension of Comment Period

AGENCY: Office of Inspector General (OIG), HHS.

ACTION: Notice and comment period; extension of comment period.

SUMMARY: On November 28, 2005, we published a notice and comment period seeking comments from interested parties on draft compliance program guidance (CPG) developed by the Office of Inspector General (OIG) for recipients of extramural research awards from the National Institutes of Health and other agencies of the U.S. Public Health Service (PHS) (70 FR 71312). To facilitate public comment, we are extending the comment period.

DATES: To assure consideration, public comments must be delivered to the address provided below by no later than 5 p.m. on January 30, 2006.

ADDRESSES: Please mail or deliver written comments to the following address: Office of Inspector General, Department of Health and Human Services, Attention: OIG-1026-CPG, Room 5246, Cohen Building, 330 Independence Avenue, SW., Washington, DC, 20201.

We do not accept comments by facsimile (FAX) transmissions. In commenting, please refer to file code OIG-1026-CPG.

FOR FURTHER INFORMATION CONTACT: Joel Schaer, Office of External Affairs, (202) 619-0089.

SUPPLEMENTARY INFORMATION: Through the draft CPG notice, OIG is setting forth its general views on the value and fundamental principles of compliance programs for colleges and universities and other recipients of PHS awards for biomedical and behavioral research and the specific elements that these award recipients should consider when developing and implementing an effective compliance program. As with OIG's earlier CPGs, the purpose of the draft guidance is to encourage the use of internal controls to effectively monitor adherence to applicable statutes, regulations, and program requirements.

To ensure full and complete public comment from affected outside research institutions and associations, we are extending the public comment period for this notice until January 30, 2006.

Dated: December 5, 2005.
Joel Schaer,
Regulations Officer.

[FR Doc. E5-7086 Filed 12-7-05; 8:45 am]

BILLING CODE 4152-01-P